SOCIAL SECURITY ADMINISTRATION

Statement of Organization, Functions and Delegations of Authority

This statement amends Part S of the Statement of the Organization, Functions and Delegations of Authority which covers the Social Security Administration (SSA). Chapter S4 covers the Deputy Commissioner for Systems. Notice is given that Chapter S4 is being amended to reflect the establishment of a new office with four new divisions. The new material and changes are as follows:

Section S4.10 The Office of the Deputy Commissioner, Systems—(Organization):

Establish:

I. The Office of Systems Electronic Services (S4M).

Section S4.20 The Office of the Deputy Commissioner, Systems—(Functions):

Establish:

I. The Office of Systems Electronic Services (OSES) (S4M) directs the development of the SSA-wide mission critical software applications that support the Electronic Service Delivery (ESD) Initiatives. It performs long range planning and analysis, and the design, development, implementation and maintenance of eSoftware solutions in support of SSA's social insurance and income maintenance programs. These applications will provide access to SSA services over such service delivery channels as the Internet, Extranet, Kiosk, and future direct service data collection channels. It provides a means for the public to have direct access to selected SSA services. It directs the coordination of general systems requirements definition among key SSA stakeholders, and representatives of the user community. It maintains a comprehensive software engineering program that provides tools, and a software infrastructure in support of SSA's entrepreneurial web development goals. It defines the Agency standards for software development. It conducts software validation and testing for all eSoftware solutions required to run on, extract data from, any of SSA's host processor's or its mission critical systems.

Section S4G.20 The Office of Systems Design and Development—(Functions):

Amend as follows:

E. The Division of Data Gathering and Architecture Software (S4GG).

Items 1 and 4.

Change the word Internet to Intranet.

Item 2.

Change the word user to users and delete the remainder of the sentence.

Establish Subchapter:

Subchapter S4M

Office of Systems Electronic Services

S4M.00 Mission

S4M.10 Organization

S4M.20 Functions

Section S4M.00 The Office of Systems Electronic Services—(Mission): The Office of Systems Electronic Services (OSES) directs the development of the SSA-wide mission critical software applications that support the Electronic Service Delivery (ESD) Initiatives. It performs long range planning and analysis, and the design, development, implementation and maintenance of eSoftware solutions in support of SSA's social insurance and income maintenance programs. These applications will provide access to SSA services over such service delivery channels as the Internet, Extranet, Kiosk, and future direct service data collection channels. It provides a means for the public to have direct access to selected SSA services. It directs the coordination of general systems requirements definition among key SSA stakeholders, and representatives of the user community. It maintains a comprehensive software engineering program that provides tools, and a software infrastructure in support of SSA's entrepreneurial web development goals. It defines the Agency standards for software development. It conducts software validation and testing for all eSoftware solutions required to run on, extract data from, any of SSA's host processor's or its mission critical systems.

Establish:

Section S4M.10 The Office of Systems Electronic Services—(Organization): The Office of Systems Electronic Services (S4M), under the leadership of the Associate Commissioner for Systems Electronic Services, includes:

A. The Associate Commissioner for Systems Electronic Services (S4M).

B. The Deputy Associate Commissioner for Systems Electronic Services (S4M).

C. The Immediate Office of the Associate Commissioner for Systems Electronic Services (S4M).

D. The Division of Architecture and Support Software Development (S4MA).

E. The Division of Client and Organizational Services Application Development (S4MB).

F. The Division of Quality, Testing and Validation (S4MC).

G. The Division of Project Support (S4ME).

Section S4M.20 The Office of Systems Electronic Services—(Functions):

A. The Associate Commissioner for Systems Electronic Services (S4M) is directly responsible to the Deputy Commissioner, Systems, for carrying out the OSES mission and providing general supervision to the major components of OSES.

B. The Deputy Associate Commissioner for Systems Electronic Services (S4M) assists the Associate Commissioner in carrying out his/her responsibilities and performs other duties as the Associate Commissioner may prescribe.

C. The Immediate Office of the Associate Commissioner for Systems Electronic Services (S4M) provides the Associate Commissioner and Deputy Associate Commissioner with staff assistance on the full range of their responsibilities.

D. Division of Architecture and Support Software Development (S4MA).

1. Develops and maintains the software engineering architecture appropriate for delivering electronic services to SSA's customers in accordance with the Agency's Electronic Service Delivery Strategy.

2. Identifies and procures software tools necessary for the design development, implementation and maintenance of SSA's eBusiness applications.

3. Designs, develops and maintains eBusiness framework components of the architecture for data interface, security, authentication, audit and messaging objects.

4. Researches, evaluates and analyzes current and emerging technologies relevant to SSA's eBusiness architecture.

5. Designs, develops and maintains repositories to support eBusiness application development.

E. Division of Client and Organizational Services Application Development (S4MB).

1. Plans, designs, develops and maintains software integral to SSA's Internet strategy.

2. Plans, designs, develops and maintains software integral to SSA's Extranet strategy.

3. Defines specific functional specifications in support of SSA's ESD applications.

4. Coordinates eBusiness application development with legacy and management information systems.

F. Division of Quality, Testing and Validation (S4MC).

1. Develops project specific test plans in support of SSA's eBusiness strategy.

2. Performs front-end systems validations as necessary to support implementation of eBusiness software.

3. Develops, maintains, and implements quality control standards in support of the development of eBusiness software.

4. Designs, develops and maintains software for the testing, validation and quality control of eBusiness applications.

5. Works in conjunction with other SSA components in conducting pilots and focus groups testing eBusiness software prior to implementation.

G. Division of Project Support (S4ME).

1. Analyzes eBusiness requirements and needs of other OSES components, and provides appropriate systems support capability.

2. Provides standards, procedures, systems support and technical assistance to OSES project managers to facilitate preparation of work plans.

3. Directs review of project work plans to ensure completeness, compatibility with standards and managerial directives, and requirements and conformity to the ADP Plan and other management decisions.

4. Monitors OSES workloads, resource estimates and resource usage for eBusiness applications. Provides comprehensive resource information to DCS management to support workload priority decisions. Directs resource estimation and reporting processes for OSES.

5. Coordinates OSES input to Agency and DCS planning processes.

Dated: February 8, 2001.
William A. Halter,
Acting Commissioner of Social Security.

[FR Doc. 01-3958 Filed 2-15-01; 8:45 am]

BILLING CODE 4191-02-P